DEPARTMENT OF HEALTH AND HUMAN SERVICES

National Institutes of Health

National Institute of Environmental Health Sciences; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Environmental Health Sciences Special Emphasis Panel Health Disparities: Linking Biological and Behavioral Mechanisms with Social and Physical Environments.

Date: July 11-13, 2000.

Time: 7:00 pm to 1:00 pm.

Agenda: To review and evaluate grant applications.

Place: Hawthorn Suites Hotel, 300 Meredith Drive, Durham, NC 27713.

Contact Person: J. Patrick Mastin, PhD, Scientific Review Administrator, SRB/DERT, NIEHS, P.O. Box 12233 MD EC-30, Research Triangle Park, NC 27709, (919) 541-1446.

Name of Committee: National Institute of Environmental Health Sciences Special Emphasis Panel Conference Grants (R13s).

Date: July 17, 2000.

Time: 1:00 pm to 2:00 pm.

Agenda: To review and evaluate grant applications.

Place: NIEHS-East Campus, 79 T W Alexander Dr., Bldg. 4401 Rm EC-122, Research Triangle Park, NC 27709, (Telephone Conference Call).

Contact Person: J. Patrick Mastin, PhD, Scientific Review Administrator, SRB/DERT, NIEHS, P.O. Box 12233 MD EC-30, Research Triangle Park, NC 27709, (919) 541-1446.

Name of Committee: National Institute of Environmental Health Sciences Special Emphasis Panel Conference Grants (R13s).

Date: July 17, 2000.

Time: 2:00 pm to 3:00 pm.

Agenda: To review and evaluate grant applications.

Place: NIEHS-East Campus, 79 T W Alexander Dr., Bldg. 4401 Rm EC-122, Research Triangle Park, NC 27709, (Telephone Conference Call).

Contact Person: J. Patrick Mastin, PhD, Scientific Review Administrator, SRB/DERT, NIEHS, P.O. Box 12233 MD EC-30, Research Triangle Park, NC 27709, (919) 541-1446.

Name of Committee: National Institute of Environmental Health Sciences Special Emphasis Panel Conference Grants (R13s).

Date: July 18, 2000.

Time: 1:00 pm to 2:00 pm.

Agenda: To review and evaluate grant applications.

Place: NIEHS-East Campus, 79 T W Alexander Dr., Bldg. 4401 Rm 3167, Research Triangle Park, NC 27709, (Telephone Conference Call).

Contact Person: J. Patrick Mastin, PhD, Scientific Review Administrator, SRB/DERT, NIEHS, P.O. Box 12233 MD EC-30, Research Triangle Park, NC 27709, (919) 541-1446.

(Catalogue of Federal Domestic Assistance Program Nos. 93.113, Biological Response to Environmental Health Hazards; 93.114, Applied Toxicological Research and Testing; 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences, National Institutes of Health, HHS)

Dated: June 20, 2000.
LaVerne Y. Stringfield,
Director, Office of Federal Advisory Committee Policy.

[FR Doc. 00-16618 Filed 6-29-00; 8:45 am]

BILLING CODE 4140-01-M